DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, the National Agricultural Statistics Service (NASS) announces a meeting of the Advisory Committee on Agriculture Statistics.

DATES: The Committee meeting will be held from 8 a.m. to 5 p.m. on Monday, February 25, 2008, and from 8 a.m. to 5 p.m. on Tuesday, February 26, 2008. There will be an opportunity for public questions and comments at 1:50 p.m. on February 26, 2008.

ADDRESSES: The Committee meeting will take place at the Marriott—Louisville Downtown, 280 West Jefferson Street, Louisville, Kentucky 40202. Written comments may be filed before or within a reasonable time after the meeting with the contact person identified herein at: U.S. Department of Agriculture, National Agricultural Statistics Service, 1400 Independence Avenue, SW., Room 5041A, South Building, Washington, DC 20250-2000.

FOR FURTHER INFORMATION CONTACT: Joe Reilly, Executive Director, Advisory Committee on Agriculture Statistics, Telephone: 202-720-4333, Fax: 202-720-9013, or e-mail: jreilly@nass.usda.gov.

SUPPLEMENTARY INFORMATION: The Advisory Committee on Agriculture Statistics, which consists of 25 members appointed from 7 categories covering a broad range of agricultural disciplines and interests, has scheduled a meeting on February 25-27, 2008. During this time the Advisory Committee will discuss topics including the USDA Information Technology Consolidation, update on the Data Enclave, Annual NASS Program Priorities, County Estimates Program, Dairy Prices, Environmental and Chemical Use Program, Farm and Ranch Irrigation Survey and Energy Survey, and Agricultural Resource Management Survey.

The Committee meeting is open to the public. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated: January 8, 2008, at Washington, DC.
Joseph Reilly,
Acting Administrator, National Agricultural Statistics Service.

[FR Doc. E8-1243 Filed 1-24-08; 8:45 am]

BILLING CODE 3410-20-P